DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (301) 443-7978.

Proposed Project: 2005 National Survey on Drug Use and Health—(OMB No. 0930-0110, Revision)—The National Survey on Drug Use and Health (NSDUH), formerly the National Household Survey on Drug Abuse (NHSDA), is a survey of the civilian, noninstitutionalized population of the United States 12 years old and older. The data are used to determine the prevalence of use of tobacco products, alcohol, illicit substances, and illicit use of prescription drugs. The results are used by SAMHSA, ONDCP, Federal government agencies, and other organizations and researchers to establish policy, direct program activities, and better allocate resources.

For the 2005 NSDUH, questions on mental health and utilization of mental health services will be included. Questions on mental health, in conjunction with questions on substance use, treatment for substance use, and mental health services, will greatly enhance the ability to characterize and understand the co-occurrence and treatment of mental illness and substance use problems in the U.S. The remaining modular components of the questionnaire will remain essentially unchanged except for minor modifications to wording.

As with all NSDUH/NHSDA surveys conducted since 1999, the sample size of the survey for 2005 will be sufficient to permit prevalence estimates for each of the fifty states and the District of Columbia. The total annual burden estimate is shown below:

| Number of responses | Responses/respondent | Average burden/response (hr.) | Total burden (hrs.)
Electronic Screening | 182,250 | 1 | .083 | 15,127
Questionnaire & Verification | 67,500 | 1 | 1.0 | 67,500
Screening Verification | 5,494 | 1 | 0.067 | 372
Interview Verification | 10,125 | 1 | 0.067 | 678
Total | 249,750 |  |  | 183,673

Written comments and recommendations concerning the proposed information collection should be sent by August 12, 2004 to: SAMHSA Desk Officer, Human Resources and Housing Branch, Office of Management and Budget, New Executive Office Building, Room 10235, Washington, DC 20503; due to potential delays in OMB's receipt and processing of mail sent through the U.S. Postal Service, respondents are encouraged to submit comments by fax to: (202) 395-6974.

Dated: July 2, 2004.
Anna Marsh,
Executive Officer, SAMHSA.

[FR Doc. 04-15794 Filed 7-12-04; 8:45 am]

BILLING CODE 4162-20-P